DEPARTMENT OF HOMELAND SECURITY

Coast Guard

33 CFR Part 100

[Docket No. USCG-2025-0682]

Special Local Regulations; Marine Events Within the USCG East District (Formerly USCG District 5); Waterman's Triathlon

AGENCY: Coast Guard, DHS.

ACTION: Notification of enforcement of regulation.

SUMMARY: The Coast Guard will enforce a special local regulation for the Waterman's Triathlon, in Rock Hall, MD from September 27 through September 28, 2025, to provide for the safety of life on navigable waterways during this event. Our regulation for marine events within the USCG East District (formerly USCG District 5) identifies the regulated area for this event in Rock Hall, MD. During the enforcement periods, the operator of any vessel in the regulated area must comply with directions from the Patrol Commander or any Official Patrol displaying a Coast Guard ensign.

DATES: The regulation in 33 CFR 100.501 for the event titled “Rock Hall and Waterman's Triathlon Swims” will be enforced from 7:45 a.m. through 4:15 p.m. on September 27, 2025, and 8:45 a.m. through 10:30 a.m. on September 28, 2025.

FOR FURTHER INFORMATION CONTACT: If you have questions about this notification of enforcement, call or email LCDR Kate M. Newkirk, Sector Maryland-NCR, Waterways Management Division, U.S. Coast Guard; telephone 410-576-2596, email MDNCRMarineEvents@uscg.mil.

SUPPLEMENTARY INFORMATION: The Coast Guard will enforce special local regulations in 33 CFR 100.501 for the regulated area associated with the event in Table 2 to Paragraph (i)(2) titled “Rock Hall and Waterman's Triathlon Swims” from 7:45 a.m. to 4:15 p.m. on September 27, 2025, and from 8:45 a.m. to 10:30 a.m. on September 28, 2025. This enforcement period differs from what is provided in the entry in Table 2 (the first weekend in October), a footnote to that table also states that the enforcement dates and times for each of the listed events in this table are subject to change and that such changes will be noticed in the Federal Register. Activation of the enforcement period is being taken to provide for the safety of life on navigable waterways during this 2-day event. As specified in 33 CFR 100.501, the location of the regulated area for the Waterman's Triathlon encompasses portions of Rock Hall Harbor, at Rock Hall, MD. During the enforcement periods, the operator of a vessel in the regulated area must comply with directions from the Patrol Commander or any Official Patrol displaying a Coast Guard ensign, as reflected in § 100.500(c).

In addition to this notification of enforcement in the Federal Register, the Coast Guard plans to provide notification of this enforcement period via the Local Notice to Mariners, marine information broadcasts, local radio stations and area newspapers.

Dated: August 15, 2025.
Patrick C. Burkett,
Captain, U.S. Coast Guard, Captain of the Port, Sector Maryland-National Capital Region.

[FR Doc. 2025-15802 Filed 8-18-25; 8:45 am]

BILLING CODE 9110-04-P